DEPARTMENT OF THE TREASURY

Fiscal Service

Surety Companies Acceptable On Federal Bonds—Terminations: Harleysville Worcester Insurance Company; OneBeacon America Insurance Company OneBeacon Insurance Company; Pennsylvania Insurance Company

AGENCY: Bureau of the Fiscal Service, Fiscal Service, Department of the Treasury.

ACTION: Notice.

SUMMARY: This is Supplement No. 10 to the Treasury Department Circular 570, 2014 Revision, published July 1, 2014, at 79 FR 37398.

FOR FURTHER INFORMATION CONTACT: Surety Bond Branch at (202) 874-6850.

SUPPLEMENTARY INFORMATION: Notice is hereby given that the Certificates of Authority issued by the Treasury to the above-named companies under 31 U.S.C. 9305 to qualify as acceptable sureties on Federal bonds were terminated effective June 30, 2015. Federal bond-approving officials should annotate their reference copies of the Treasury Department Circular 570 (“Circular”), 2014 Revision, to reflect this change.

With respect to any bonds currently in force with these companies, bond-approving officers may let such bonds run to expiration and need not secure new bonds. However, no new bonds should be accepted from these companies, and bonds that are continuous in nature should not be renewed.

The Circular may be viewed and downloaded through the Internet at www.fiscal.treasury.gov/fsreports/ref/suretyBnd/c570.htm.

Questions concerning this notice may be directed to the U.S. Department of the Treasury, Bureau of the Fiscal Service, Financial Accounting and Services Division, Surety Bond Section, 3700 East-West Highway, Room 6D22, Hyattsville, MD 20782.

Dated: June 26, 2015.
Alberta Holloway,
Acting Manager, Financial Accounting and Services Branch.

[FR Doc. 2015-16279 Filed 6-30-15; 8:45 am]

BILLING CODE 4810-35-P